DEPARTMENT OF VETERANS AFFAIRS

[OMB Control No. 2900-0051]

Agency Information Collection Activities Under OMB Review

AGENCY: Veterans Benefits Administration, Department of Veterans Affairs.

ACTION: Notice.

SUMMARY: In compliance with the Paperwork Reduction Act (PRA) of 1995 (44 U.S.C. 3501 -21), this notice announces that the Veterans Benefits Administration (VBA), Department of Veterans Affairs, has submitted the collection of information abstracted below to the Office of Management and Budget (OMB) for review and comment. The PRA submission describes the nature of the information collection and its expected cost and burden and it includes the actual data collection instrument.

DATES: Comments must be submitted on or before August 9, 2007.

ADDRESSES: Submit written comments on the collection of information through http://www.Regulations.gov; or to VA's OMB Desk Officer, OMB Human Resources and Housing Branch, New Executive Office Building, Room 10235, Washington, DC 20503 (202) 395-7316. Please refer to “OMB Control No. 2900-0051” in any correspondence.

For Further Information or a Copy of the Submission Contact: Denise McLamb, Records Management Service (005G2), Department of Veterans Affairs, 810 Vermont Avenue, NW., Washington, DC 20420, (202) 565-8374, FAX (202) 565-7870 or e-mail: denise.mclamb@mail.va.gov. Please refer to “OMB Control No. 2900-0051.”

SUPPLEMENTARY INFORMATION: Title: Quarterly Report of State Approving Agency Activities.

OMB Control Number: 2900-0051.

Type of Review: Revision of a currently approved collection.

Abstract: VA reimburses State Approving Agencies (SAAs) for necessary salary, fringe and travel expenses incurred in the approval and supervision of education and training programs. SAAs are required to report their activities to VA quarterly and provide notices regarding which courses, training programs and tests were approved, disapproved or suspended.

An agency may not conduct or sponsor, and a person is not required to respond to a collection of information unless it displays a currently valid OMB control number. The Federal Register Notice with a 60-day comment period soliciting comments on this collection of information was published on April 9, 2007, at page 17626.

Affected Public: Federal Government, and State, Local or Tribal Government.

Estimated Annual Burden: 37,647 hours.

Estimated Average Burden Per Respondent: 1 hour.

Frequency of Response: Quarterly.

Estimated Number of Respondents: 59.

Estimated Number of Responses: 3,637.

Dated: June 26, 2007.
By direction of the Secretary.
Denise McLamb,
Program Analyst, Records Management Service.

[FR Doc. E7-13291 Filed 7-9-07; 8:45 am]

BILLING CODE 8320-01-P